NATIONAL CREDIT UNION ADMINISTRATION

Notice of Change in Subject of Meeting

The National Credit Union Administration Board determined that its business requires the deletion of the following item from the previously announced closed meeting (Federal Register, Vol. 66, No. 29, page 9884, February 12, 2001) scheduled for Thursday, February 15, 2001.

2. One (1) Personnel Matter. Closed pursuant to exemption (2).

The Board voted unanimously that agency business requires that this item be removed from the closed agenda. Earlier announcement of this change was not possible.

The previously announced items are:

1. Special Assistance Program. Closed pursuant to exemption (8).

2. Four (4) Personnel Matters. Closed pursuant to exemptions (2) and (6).

FOR FURTHER INFORMATION CONTACT: Becky Baker, Secretary of the Board, Telephone (703) 518-6304.

Becky Baker,
Secretary of the Board.

[FR Doc. 01-4073 Filed 2-13-01; 4:40 pm]

BILLING CODE 7535-01-M